DEPARTMENT OF AGRICULTURE

Animal and Plant Health Inspection Service

9 CFR Part 94

[Docket No. 01-059-1]

Change in Disease Status of Greece With Regard to Foot-and-Mouth Disease

AGENCY: Animal and Plant Health Inspection Service, USDA.

ACTION: Proposed rule.

SUMMARY: We are proposing to amend the regulations to add Greece to the list of regions that are considered free of rinderpest and foot-and-mouth disease. We are taking this action because we have determined that Greece is now free of foot-and-mouth disease. We are also proposing to add Greece to the list of regions that are subject to certain import restrictions on meat or meat products because of their proximity to or trading relationships with rinderpest- or foot-and-mouth-disease-affected regions. These actions would update the disease status of Greece with regard to foot-and-mouth disease while continuing to protect the United States from an introduction of this disease by providing additional requirements for any meat and meat products imported into the United States from Greece.

DATES: We will consider all comments we receive that are postmarked, delivered, or e-mailed by May 20, 2002.

ADDRESSES: You may submit comments by postal mail/commercial delivery or by e-mail. If you use postal mail/commercial delivery, please send four copies of your comment (an original and three copies) to: Docket No. 01-059-1, Regulatory Analysis and Development, PPD, APHIS, Station 3C71, 4700 River Road Unit 118, Riverdale, MD 20737-1238. Please state that your comment refers to Docket No. 01-059-1. If you use e-mail, address your comment to regulations@aphis.usda.gov. Your comment must be contained in the body of your message; do not send attached files. Please include your name and address in your message and “Docket No. 01-059-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Anne Goodman, Senior Staff Microbiologist, Regionalization Evaluation Services Staff, VS, APHIS, 4700 River Road Unit 38, Riverdale, MD 20737-1231; (301) 734-4356.

SUPPLEMENTARY INFORMATION:

Background

The regulations in 9 CFR part 94 (referred to below as the regulations) govern the importation of certain animals and animal products into the United States in order to prevent the introduction of various diseases, including rinderpest, foot-and-mouth disease (FMD), African swine fever, hog cholera, and swine vesicular disease. These are dangerous and destructive communicable diseases of ruminants and swine. Section 94.1 lists regions of the world that are declared to be free of rinderpest or free of both rinderpest and FMD. The Animal and Plant Health Inspection Service (APHIS) considers rinderpest or FMD to exist in all parts of the world not listed. Section 94.11 of the regulations lists regions of the world that APHIS has determined to be free of rinderpest and FMD, but that are subject to certain restrictions because of their proximity to or trading relationships with rinderpest- or FMD-affected regions.

Greece is currently listed in § 94.1(a)(3) of the regulations as a region free of rinderpest. On June 25, 1999, we published in the Federal Register (64 FR 34155-34168, Docket No. 98-090-1) a proposal to amend § 94.1 to recognize Greece as a region free of FMD. However, in July 2000, FMD was diagnosed in cattle in the Evros Prefecture in Greece. This and subsequent outbreaks meant that we were unable to declare Greece free of FMD based on that proposal.

Since September 2000, there have been no additional outbreaks of FMD in Greece. APHIS representatives conducted a site visit to Greece in January 2001 to obtain evidence regarding the FMD status of Greece. Documentation of the control and eradication procedures used during the FMD outbreaks in Greece is provided in the site visit report, which may be viewed on the Internet at http://www.aphis.usda.gov/vs/reg-request.html. Briefly summarized, the disease outbreak was eradicated by applying a stamping out/nonvaccination policy. Controls over the movement of animals and animal products from regions of higher risk, such as along Greece's border with Turkey, were applied. In addition, Greece continues to conduct an established surveillance program to detect and control any future incursions of FMD or other diseases. Greece continues to work with Turkey to address risk factors associated with the presence of FMD in Turkey.

Consistent with the guidelines of the Office International des Epizooties (OIE)—i.e., at least 12 months have elapsed since the last outbreak of FMD in Greece—and the findings of our site visit and review of the supporting documentation provided by Greece, we are proposing to recognize Greece as free of FMD. In addition, we are proposing to add Greece to the list of rinderpest- and FMD-free regions whose exports of ruminant and swine meat and meat products to the United States are subject to certain restrictions to ensure against the introduction of those diseases into this country.

Based on the information submitted to us by the Government of Greece, we have reviewed and analyzed the animal health status of Greece relative to FMD. This review and analysis was conducted in light of the risk factors identified in 9 CFR 92.2, “Application for recognition of the animal health status of a region,” which are used to determine the level of risk associated with importing animals or animal products into the United States from a given region. Based on the information submitted to us, we have concluded the following:

Veterinary infrastructure. The veterinary services authorities in Greece have the legal authority, organization, and infrastructure to detect, control, and eradicate FMD. The official veterinary force of Greece includes approximately 810 veterinarians, 70 veterinary laboratories, and 190 lay assistants organized under the State Veterinary Service. The field force is dispersed among 51 Local Disease Control Centers, each of which reports to the National Disease Control Center in Athens. In the event of an animal disease emergency, the State Veterinary Service has the authority to call upon police and local authorities to provide support and assistance in depopulating infected premises, disposing of animal carcasses, controlling and restricting animal movements, and closing markets and slaughterhouses.

Greece's veterinary infrastructure has been strengthened by financial contributions from the European Union for activities relating to specific diseases. In the case of FMD, financial support has been provided for diagnostic laboratory equipment, data management equipment, and surveillance activities.

Disease history and surveillance. The first outbreak of FMD virus serotype Asia 1 in Greece occurred in July 2000, and the last in September 2000. A total of 14 FMD outbreaks occurred in 6 epidemiological episodes. There were three primary outbreaks in the Prefecture of Evros. The remaining outbreaks were secondary, caused by spread from the primary outbreaks. The virus is believed to have come from Turkey, an FMD-affected country with which Greece shares a border.

Routine surveillance for targeted diseases is carried out in specified areas of Greece under the Epidemio-Vigilance Rotational System (EVROS). This program, launched in 2000 with the support of the European Commission, is an integrated system of active surveillance for incursions of targeted diseases, including FMD, designed to provide early warning and effective control. The program is established in the border areas with Turkey that are primarily at risk for incursions of FMD virus.

Diagnostic capabilities. This factor was evaluated by APHIS in the context of the proposed rule published in 1999 and found to be acceptable. No significant changes have occurred since that time, so no further evaluation is necessary.

Vaccination status. No vaccination was used in control of the outbreak of FMD virus type Asia 1 in 2000 or type O1 in 1996. Vaccination has not been used to control type Asia 1 in Greece since 1961.

Disease status of adjacent regions. Following is a brief discussion of the disease status of those countries with which Greece shares a land border:

• Turkey. FMD is endemic in the Anatolia region of Turkey and causes significant economic losses. The disease is being controlled using vaccination, quarantine, movement controls, and surveillance and monitoring. Turkey has increased its efforts to control FMD in recent years. Asia 1 and subtypes of FMD virus serotype A remain potential risks for Turkey, however, and also for Europe. Although Turkey should be considered a high-risk area regarding the transmission of the disease to Greece and the rest of Europe, APHIS considers existing controls in Greece to be sufficient to reduce the risk.

• Bulgaria. There were no outbreaks of FMD reported to the OIE by Bulgaria in 2000 and through June 2001.

• Macedonia. There were no outbreaks of FMD reported to the OIE by the Former Yugoslav Republic of Macedonia in 2000. No data are available for 2001.

• Albania. There were no outbreaks of FMD reported to the OIE by Albania in 2000. No data are available for 2001.

Degree of separation from adjacent regions. The Evros River defines the border between Greece and Turkey. However, it is possible that persons and animals may still cross the river undetected, thus posing a risk of transmitting FMD from Turkey. However, Greece has the laws, policies, and infrastructure to detect, respond to, and eliminate any occurrence of FMD.

There are several Greek islands that lie in the Aegean Sea directly to the south of the Evros delta off the Turkish mainland. Greece has special surveillance programs in effect on these islands to prevent the transmission of FMD from Turkey to Greece via these islands.

Greece's borders with Bulgaria, Macedonia, and Albania are generally mountainous, concentrating movements in the river valleys but making the mountainous part of the borders more difficult to monitor. This is not considered to be a significant source of risk.

Movement across borders. The movement of animals and animal products from non-European Union (EU) countries is regulated according to EU legislation. These regulations prohibit the entry of live susceptible animals and risky products from regions of higher risk, including Turkey. In general, these movements are well controlled through established border posts. The border between Greece and Turkey is well protected by military and other control points.

Livestock demographics and marketing practices. The area where the outbreak occurred in 2000 is located in the Evros delta, immediately adjacent to the border with Turkey. The Evros delta lies entirely within Greek territory. The entire delta area is a wildlife sanctuary protected by the Ramsar Convention and thus is not inhabited. Arable land within the delta is cultivated with various crops, such as corn, alfalfa, cotton, and tobacco. The marshland along the river and the crop fields after harvest provide year-round pasture for cattle, sheep, and goats. The delta can sustain more than 5,000 cattle and approximately 2,000 sheep and goats. The majority of the cattle are free-grazing beef cattle that move freely throughout the area. All cattle and most sheep and goats inside the delta are individually identified using unique ear tags. As outlined in the EVROS program, all animal movements in the prefecture of Evros, including the delta area, are controlled via permits.

Detection and eradication of disease. FMD has been effectively controlled and eradicated from Greece and is not known to exist in Greece at this time. Greece maintains a surveillance system capable of rapidly detecting FMD should the disease be introduced into the country, with more intense scrutiny in the Evros delta bordering Turkey. The animal health status of the Greek Evros prefecture will continue to be closely monitored. Greece has the laws, policies, and infrastructure to detect, respond to, and eliminate any occurrence of FMD and is working closely with neighboring countries and EU Member States to address risk factors presented by those potential sources.

These findings are described in further detail in a qualitative evaluation that may be obtained by contacting the person listed under FOR FURTHER INFORMATION CONTACT and may be viewed on the Internet at http://www.aphis.usda.gov/vs/reg-request.html by following the link for current requests and supporting documentation. The evaluation documents the factors that have led us to conclude that Greece is free of FMD. Therefore, we are proposing to recognize Greece as free of FMD and add Greece to the list in § 94.1(a)(2) of regions that are considered free of FMD and rinderpest. We would also remove Greece from the list in § 94(a)(3) of countries that are free of rinderpest only.

These proposed actions would relieve certain restrictions due to FMD and rinderpest on the importation into the United States of certain live animals and animal products from Greece. However, because Greece shares common land borders with countries not considered free of rinderpest and FMD, the importation of meat and other products from ruminants and swine into the United States from Greece would continue to be subject to certain restrictions.

Specifically, we are proposing to add Greece to the list in § 94.11(a) of regions declared free of rinderpest and FMD but that are subject to special restrictions on the importation of their meat and other animal products into the United States. The regions listed in § 94.11(a) are subject to these special restrictions because they: (1) Supplement their national meat supply by importing fresh (chilled or frozen) meat of ruminants or swine from regions that are designated in § 94.1(a) as regions where rinderpest or FMD exists, (2) have a common land border with regions where rinderpest or FMD exists, or (3) import ruminants or swine from regions where rinderpest or FMD exists under conditions less restrictive than would be acceptable for importation into the United States.

Greece has a common land border with Turkey, a country not considered free of FMD. As a result, there is some risk that the meat and other animal products produced by Greece could be commingled with the fresh (chilled or frozen) meat of animals from a region in which FMD exists and present an undue risk of introducing FMD into the United States if imported without restriction.

Under § 94.11, meat and other animal products of ruminants and swine, including ship stores, airplane meals, and baggage containing these meat or animal products, may not be imported into the United States except in accordance with § 94.11 and the applicable requirements of the U.S. Department of Agriculture's Food Safety and Inspection Service at 9 CFR chapter III.

Section 94.11 generally requires that the meat and other animal products of ruminants and swine be: (1) Prepared in an inspected establishment that is eligible to have its products imported into the United States under the Federal Meat Inspection Act; and (2) accompanied by an additional certificate, issued by a full-time salaried veterinary official of the national government of the exporting region, assuring that the meat or other animal products have not been commingled with or exposed to meat or other animal products originating in, imported from, transported through, or that have otherwise been in a region where rinderpest or FMD exists.

Executive Order 12866 and Regulatory Flexibility Act

This proposed rule has been reviewed under Executive Order 12866. For this action, the Office of Management and Budget has waived its review process required by Executive Order 12866.

We are proposing to amend the regulations to add Greece to the list of regions that are considered free of rinderpest and FMD. We are taking this action because we have determined that Greece is now free of FMD. We are also proposing to add Greece to the list of regions that are subject to certain restrictions because of their proximity to or trading relationships with rinderpest- or FMD-affected countries. These actions would update the disease status of Greece with regard to FMD while continuing to protect the United States from an introduction of rinderpest and FMD by providing additional requirements for any meat and meat products imported into the United States from Greece.

The following analysis addresses the potential economic effects of this proposed rule as required by the Regulatory Flexibility Act.

From an economic standpoint, the proposed rule would have little or no impact on U.S. animal stock and commodities. There are two reasons. First, the proposed rule would not remove other disease-based restrictions on the importation of ruminants or swine (and certain meat and other products from those animals) from Greece into the United States. Because bovine spongiform encephalopathy is considered to exist in Greece, the importation of ruminants and meat, meat products, and certain other products of ruminants that have been in Greece is prohibited. Furthermore, because hog cholera (also known as classical swine fever) and swine vesicular disease are also considered to exist in Greece, the importation of swine from that region into the United States is prohibited, and the importation of pork and pork products is subject to restrictions.

Second, it appears unlikely that the volume of animals and animal products that would be eligible for importation into the United States from Greece would be sufficient to have a significant impact on the U.S. market. In 2000, Greece produced 287,765 metric tons of beef, veal, mutton, lamb, and pig meat, representing less than 1.5 percent of the comparable U.S. production that year. Similarly, Greece's production of whole, fresh cow milk was 770,000 metric tons, only 1 percent of the comparable U.S. production during that period. Finally, in 1999, live cattle and pig stock in Greece was 1,510,000 head, less than 1 percent of the comparable stock in the United States that year.¹

¹ Food and Agricultural Organization of the United Nations.

Besides cow milk, Greece also produces sheep and goat milk. In 2000, Greece produced 670,000 metric tons of sheep milk and 450,000 metric tons of goat milk. However, there appears to be no significant market in the United States for those commodities, or products made from them, such as cheese, as evidenced by the fact that no sheep or goat milk or cheese is commercially produced in the United States, and U.S. imports of those commodities are relatively minor. In 1999, for example, U.S. imports of cheese made from sheep and goat milk from all countries totaled 32,505 metric tons, less than 1 percent of the total U.S. cheese production.

In 1999, the stock of live sheep and goats in Greece was 14,276,000 head, or 66 percent more than the comparable stock in the United States that year. Here again, however, there appears to be no significant market in the United States for those animals, as evidenced by the fact that the United States imported only 53,165 live sheep and goats from all countries in 1999, which represents less than 1 percent of the sheep and goat stock in the United States that year and less than 1 percent of U.S. imports of all live animals from all countries in 1999.²

² Food and Agricultural Organization of the United Nations.

Entities potentially affected by this proposed rule include U.S. import brokers, agents, and others involved in the sale of animals or animal products from Greece that would no longer be prohibited, or that could be imported under less restrictive conditions, if Greece is declared free of FMD. The number and size of entities that might be directly involved in the importation and sale of such animals or animal products from Greece is unknown, but it is likely that these entities would be small, based on the U.S. Small Business Administration's (SBA) size standards.³ Given the disease-based restrictions discussed previously that would remain in place and the minimal level of U.S. imports of animals and animal products that would be eligible for importation from Greece, we expect that declaring Greece free of FMD would have only a negligible effect on U.S. entities, large or small.

³ The overwhelming majority of U.S. business entities are small under the SBA's standards.

Under these circumstances, the Administrator of the Animal and Plant Health Inspection Service has determined that this action would not have a significant economic impact on a substantial number of small entities.

Executive Order 12988

This proposed rule has been reviewed under Executive Order 12988, Civil Justice Reform. If this proposed rule is adopted: (1) All State and local laws and regulations that are inconsistent with this rule will be preempted; (2) no retroactive effect will be given to this rule; and (3) administrative proceedings will not be required before parties may file suit in court challenging this rule.

Paperwork Reduction Act

This proposed rule contains no information collection or recordkeeping requirements under the Paperwork Reduction Act of 1995 (44 U.S.C. 3501 et seq.).

Lists of Subjects in 9 CFR Part 94

Animal diseases, Imports, Livestock, Meat and meat products, Milk, Poultry and poultry products, Reporting and recordkeeping requirements.

Accordingly, we are proposing to amend 9 CFR part 94 as follows:

PART 94—RINDERPEST, FOOT-AND-MOUTH DISEASE, FOWL PEST (FOWL PLAGUE), EXOTIC NEWCASTLE DISEASE, AFRICAN SWINE FEVER, HOG CHOLERA, AND BOVINE SPONGIFORM ENCEPHALOPATHY: PROHIBITED AND RESTRICTED IMPORTATIONS

1. The authority citation for part 94 would continue to read as follows:

Authority: 7 U.S.C. 450, 7711, 7712, 7713, 7714, 7751, and 7754; 19 U.S.C. 1306; 21 U.S.C. 11, 114a, 134a, 134b, 134c, 134f, 136, and 136a; 31 U.S.C. 9701; 42 U.S.C. 4331 and 4332; 7 CFR 2.22, 2.80, and 371.4.

§ 94.1 [Amended]

2. Section 94.1 would be amended as follows:

a. In paragraph (a)(2), by adding, in alphabetical order, the word “Greece,”.

b. In paragraph (a)(3), by removing the words “Greece and the” and adding the word “The” in their place.

§ 94.11 [Amended]

3. In § 94.11, paragraph (a), the first sentence would be amended by adding, in alphabetical order, the word “Greece,”.

Done in Washington, DC, this 18th day of March 2002.
W. Ron DeHaven,
Acting Administrator, Animal and Plant Health Inspection Service.

[FR Doc. 02-6837 Filed 3-20-02; 8:45 am]

BILLING CODE 3410-34-U